DEPARTMENT OF TRANSPORTATION

Federal Aviation Administration

14 CFR Part 71

[Docket No. FAA-2017-0721; Airspace Docket No. 17-AGL-15]

Amendment of Class E Airspace; Charlotte, MI

AGENCY: Federal Aviation Administration (FAA), DOT.

ACTION: Final rule.

SUMMARY: This action modifies Class E airspace extending upward from 700 feet above the surface at Fitch H. Beach Airport, Charlotte, MI, due to the decommissioning of the Lansing VHF omnidirectional range (VOR) and collocated tactical air navigation (TACAN) which provided navigation guidance for the instrument procedures to this airport. The Lansing VOR/TACAN is being decommissioned as part of the VOR Minimum Operational Network (MON) Program. This action enhances safety and management of instrument flight rules (IFR) operations at this airport. Additionally, the geographic coordinates of the airport are being adjusted to coincide with the FAA's aeronautical database. An editorial change is also being made removing the city associated with the airport name in the airspace legal designation.

DATES: Effective 0901 UTC, July 19, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E airspace extending upward from 700 feet above the surface at Fitch H. Beach Airport, Charlotte, MI, to support IFR operations for instrument approach procedures at the airport.

History

The FAA published notice of proposed rulemaking (NPRM) in the Federal Register (82 FR 44541; September 25, 2017) for Docket No. FAA-2017-0721 to modify the Class E airspace extending upward from 700 feet above the surface at Fitch H. Beach Airport, Charlotte, MI. Interested parties were invited to participate in this rulemaking effort by submitting written comments on the proposal to the FAA. One comment was received stating “. . . increasing one class of airspace would diminish the boundary between two. This would require the Pilot In Command to request access in their airspace.”

The FAA does not agree. The airspace classification, currently Class E airspace extending upward from 700 feet above the surface, is being amended to increase the radius of the airspace by 0.1 mile to fully protect the transitional IFR requirements to and from the terminal and en route environments at Fitch H. Beach Airport, Charlotte, MI, as required by FAA Order 7400.2L, Procedures for Handling Airspace Matters. This amendment only affects the class E airspace extending upward from 700 feet above the surface at Fitch H. Beach Airport and does not affect or impact any other airspace within the area. This amendment does not change the class of airspace, and therefore does not change any of the current requirements on the pilot in command when operating at Fitch H. Beach Airport.

Due to a recent change to FAA Order 7400.2L, dated October 12, 2017, the name of the city associated with the airport is removed from the airspace legal designation.

Class E airspace designations are published in paragraph 6005 of FAA Order 7400.11B, dated August 3, 2017, and effective September 15, 2017, which is incorporated by reference in 14 CFR 71.1. The Class E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

This amendment to Title 14, Code of Federal Regulations (14 CFR) part 71 modifies Class E airspace area extending upward from 700 feet above the surface within a 6.4-mile radius (increased from a 6.3-mile radius) at Fitch H. Beach, Charlotte, MI, and updates the geographic coordinates of the airport to coincide with the FAA's aeronautical database.

The name of the city associated with the airport is removed from the airspace legal designation to comply with a recent change to FAA Order 7400.2L. Except for the change noted above, this rule is the same as published in the NPRM.

Airspace reconfiguration is necessary due to the decommissioning of the Lansing VOR/TACAN, which provided navigation guidance for the instrument procedures to this airport, as part of the VOR MON Program. This action enhances safety and the management of IFR operations at this airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

Paragraph 6005 Class E Airspace Areas Extending Upward From 700 Feet or More Above the Surface of the Earth.

* * * * *

AGL MI E5 Charlotte, MI [Amended]

Fitch H. Beach Airport, MI

(Lat. 42°34′27″ N, long. 84°48′44″ W)

That airspace extending upward from 700 feet above the surface within a 6.4-mile radius of the Fitch H. Beach Airport.

Issued in Fort Worth, Texas, on April 30, 2018.
Christopher L. Southerland,
Acting Manager, Operations Support Group, ATO Central Service Center.

[FR Doc. 2018-09562 Filed 5-4-18; 8:45 am]

BILLING CODE 4910-13-P